DEPARTMENT OF ENERGY

Federal Energy Regulatory Commission

[Docket No. RP99-166-004]

Stingray Pipeline Company, L.L.C.; Notice of Compliance Filing

January 8, 2003.

Take notice that on December 31, 2002, Stingray Pipeline Company, L.L.C. (Stingray) tendered for filing as part of its FERC Gas Tariff, Third Revised Volume No. 1, Twelfth Revised Sheet No. 5; with a proposed effective date of January 1, 2003.

Stingray states that on September 19, 2002, it filed a stipulation and agreement (Settlement) to resolve all issues pending in this proceeding. By letter order dated December 24, 2002 the Commission approved the settlement and directed Stingray to file within fifteen days tariff sheets implementing the Settlement rates. As directed by the Commission, Stingray is submitting the revised tariff sheet to implement the rates provided for in the Settlement.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: January 13, 2003.

Magalie R. Salas,
Secretary.

[FR Doc. 03-760 Filed 1-13-03; 8:45 am]

BILLING CODE 6717-01-P